DEPARTMENT OF THE INTERIOR

Bureau of Land Management

[LLNML003100 L14300000.ES0000; NMNM 122512]

Notice of Realty Action; Recreation and Public Purposes (R&PP) Act Classification; New Mexico

AGENCY: Bureau of Land Management, Interior.

ACTION: Notice of realty action.

SUMMARY: The Bureau of Land Management (BLM) has examined approximately 5 acres of public land in Dona Ana County, New Mexico, and found them suitable for classification for lease and/or conveyance under the provisions of the Recreation and Public Purposes (R&PP) Act, as amended. The Property Control Division of the New Mexico General Services Department proposes to construct buildings for the Department of Public Safety, New Mexico State Police District 4 Headquarters.

DATE: Interested parties should submit written comments regarding the proposed lease/conveyance or classification of the land on or before February 1, 2010.

ADDRESSES: Written comments concerning this notice should be addressed to: District Manager, BLM Las Cruces District Office, 1800 Marquess Street, Las Cruces, New Mexico 88005.

FOR FURTHER INFORMATION CONTACT: Frances Martinez, Realty Specialist, at the above address or at (575) 525-4385.

SUPPLEMENTARY INFORMATION: In accordance with Section 7 of the Taylor Grazing Act (43 U.S.C. 315f), the following public land in Dona Ana County, New Mexico, has been examined and found suitable for classification for lease and conveyance to the New Mexico General Services Department under the provisions of the R&PP Act, as amended (43 U.S.C. 869 et seq.):

New Mexico Principal Meridian

T. 22 S., R. 2 E.,

Sec. 28, W½NE¼SW¼SE¼.

The area described contains 5 acres, more or less, in Dona Ana County.

In accordance with the R&PP Act, the Property Control Division of the New Mexico General Services Department proposes to construct buildings for the Department of Public Safety, New Mexico State Police District 4 Headquarters, which will include offices for the District 4 Uniform Bureau, the Investigations Bureau, and the Special Investigations Bureau, a communication center for District 4 and District 12, and a full service automobile repair garage. This will consolidate the three offices currently leased for officers and agents. Additional detailed information pertaining to this application, plan of development, and site plans are contained in case file NMNM 122512 located in the BLM Las Cruces District Office. The above-described land is not needed for any Federal purpose. Lease and conveyance of the land to the Property Control Division of the New Mexico General Services Department is consistent with the BLM Mimbres Resource Management Plan, dated December 1993, and would be in the public interest. The Property Control Division of the New Mexico General Services Department has not applied for more than the 640-acre annual limitation for public purposes other than recreation use and has submitted a statement in compliance with the regulations at 43 CFR 2741.4(b).

The lease and conveyance, if issued, will be subject to the following terms, conditions, and reservations:

1. Provisions of the R&PP Act and to all applicable regulations of the Secretary of the Interior, including, but not limited to, the terms required by 43 CFR 2741.9;

2. A right-of-way for ditches and canals constructed by the authority of the United States, Act of August 30, 1890, 26 Statute (stat.) 391 (43 U.S.C. 945);

3. Lease or patent of the public land shall be subject to valid existing rights. Subject to limitations prescribed by law and regulation, prior to patent issuance, a holder of any right-of-way within the lease area may be given the opportunity to amend the right-of-way for conversion to a new term, including perpetuity, if applicable;

4. All minerals shall be reserved to the United States, together with the right to prospect for, mine, and remove the same;

5. An appropriate indemnification clause protecting the United States from claims arising out of the lessee's/patentee's use, occupancy, or operations on the leased/patented lands;

6. Any other reservations that the authorized officer determines appropriate to ensure public access and proper management of Federal land and interests therein.

Detailed information concerning this proposed project, including, but not limited to, documentation relating to compliance with applicable environmental and cultural resource laws, is available for review at the address above.

On December 17, 2009, the land described above will be segregated from all other forms of appropriation under the public land laws, including the general mining laws, except for lease and conveyance under the R&PP Act, and leasing under the mineral leasing laws.

Classification Comments: Interested parties may submit comments involving the suitability of the land for the proposed use. Comments on the classification are restricted to whether: (1) The land is physically suited for the proposal; (2) The use will maximize the future use or uses of the land; (3) The use is consistent with local planning and zoning; and (4) The use is consistent with state and Federal programs.

Application Comments: Interested parties may submit comments regarding the specific use proposed in the application and plan of development, whether the BLM followed proper administrative procedures in reaching the decision, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM State Director who may sustain, vacate, or modify this realty action. In the absence of any adverse comments, the classification will become effective February 16, 2010. The land will not be available for lease or conveyance until after the classification becomes effective.

Authority: 43 CFR 2741.5.

Bill Childress,
District Manager.

[FR Doc. E9-30005 Filed 12-16-09; 8:45 am]

BILLING CODE 4310-VC-P